DEPARTMENT OF HOMELAND SECURITY

[Docket No. DHS-2023-0028]

Homeland Security Academic Partnership Council

AGENCY: The Office of Partnership and Engagement (OPE), The Department of Homeland Security (DHS).

ACTION: Notice of public meeting of the Homeland Security Academic Partnership Council.

SUMMARY: The Homeland Security Academic Partnership Council (HSAPC) will hold a public meeting on Wednesday, September 6, 2023. The meeting will be open to the public via web conference.

DATES: The meeting will take place from 4:30 p.m. EDT to 5:30 p.m. EDT on Wednesday, September 6, 2023. Please note that the meeting may end early if the Council has completed its business.

ADDRESSES: The HSAPC meeting will be held via web conference. Members of the public interested in participating may do so by following the process outlined below. The public will be in listen-only mode. Written comments can be submitted no later than 5:00 p.m. EDT on Friday, September 8, 2023. Comments must be identified by Docket No. DHS-2023-0028 and may be submitted by one of the following methods:

• Federal eRulemaking Portal: http://www.regulations.gov. Follow the instructions for submitting comments, or

• Email: DHSAcademic@hq.dhs.gov. Include Docket No. DHS-2023-0028 in the subject line of the message.

Instructions: All submissions received must include the words “Department of Homeland Security” and “DHS-2023-0028,” the docket number for your comments. Comments received will be posted without alteration at http://www.regulations.gov, including any personal information provided. You may wish to review the Privacy and Security Notice found via a link on the homepage of www.regulations.gov.

Docket: For access to the docket to read comments received by the Council, go to http://www.regulations.gov, search “DHS-2023-0028,” and “Open Docket Folder” to view the comments. A copy of all meeting documents will be emailed to members of the public who have registered for the September 6 meeting. These documents will also be listed in the September 6th meeting minutes.

FOR FURTHER INFORMATION CONTACT: Vania Lockett, Associate Director of the Office of Academic Engagement, Homeland Security Academic Partnership Council, Department of Homeland Security at DHSAcademic@hq.dhs.gov or 202-282-8719.

SUPPLEMENTARY INFORMATION: Notice of this meeting is given under Section 10(a) of the Federal Advisory Committee Act (FACA), Public Law 117-286 (5 U.S.C. ch. 10), which requires each FACA committee meeting to be open to the public unless the President, or the head of the agency to which the advisory committee reports, determines that a portion of the meeting may be closed to the public in accordance with 5 U.S.C. 552b(c).

The HSAPC provides provide organizationally independent, strategic, timely, specific, and actionable recommendations to the Secretary on key issues across the homeland security enterprise as they relate to the intersection of education, academia, and the DHS mission. The meeting will include:

(1) Remarks from Senior DHS leaders,

(2) Introduction and swearing in of members,

(3) Remarks from HSAPC Chair and Vice Chair, and

(4) Discussion or announcement of New Taskings.

Members of the public will be in listen-only mode. Members of the public may register to participate in this Council meeting via web conference under the following procedures. Each individual must provide their full legal name and email address no later than 5:00 p.m. EST on Tuesday, September 5, 2023, to Vania Lockett of the Council via email to DHSAcademic@hq.dhs.gov or via phone at 202-282-8719.

Members of the public who have registered to participate will be provided the weblink after the closing of the public registration period and prior to the start of the meeting. For more information about the HSAPC, please visit our website: https://www.dhs.gov/homeland-security-academic-partnership-council-hsapc.

Lastly, the HSAPC is committed to ensuring all participants have equal access regardless of disability status. For information on services for individuals with disabilities or if you require a reasonable accommodation due to a disability to fully participate, please contact Vania Lockett at DHSAcademic@hq.dhs.gov or 202-282-8719 no later than 5:00 p.m. EST on Friday, September 1, 2023.

Tamara J. Molina,
Alternate Designated Federal Officer, Homeland Security Academic Partnership Council, U.S. Department of Homeland Security.

[FR Doc. 2023-17632 Filed 8-16-23; 8:45 am]

BILLING CODE 9112-FN-P